DEPARTMENT OF JUSTICE

Antitrust Division

Notice Pursuant to the National Cooperative Research and Production Act of 1993—Cooperative Research Group on Diesel Aftertreatment Accelerated Aging Cycles—Heavy-Duty

Correction

In notice document E9-4026 appearing on page 8813, in the issue of Thursday, February 26, 2009, make the following correction:

On page 8813, in the first column, in the second paragraph, in the sixth line, “MTtJ” should read “MTU”.

[FR Doc. Z8-4026 Filed 4-3-09; 8:45 am]

BILLING CODE 1505-01-D